DEPARTMENT OF HEALTH AND HUMAN SERVICES

Centers for Medicare & Medicaid Services

[Document Identifier: CMS-10266, CMS-855S and CMS-10264]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Conditions of Participation: Requirements for Approval and Reapproval of Transplant Centers to Perform Organ Transplants and Supporting Regulations in 42 CFR 482.74, 482.94, 482.100, 482.102, 488.61; Use: The Conditions of Participation and accompanying requirements specified in the regulations are used by our surveyors as a basis for determining whether a transplant center qualifies for approval or re-approval under Medicare. CMS and the healthcare industry believe that the availability to the facility of the type of records and general content of records is standard medical practice and is necessary in order to ensure the well-being and safety of patients and professional treatment accountability. Form Number: CMS-10266 (OMB# 0938-New); Frequency: Yearly; Affected Public: Business or other for-profits and not-for-profit institutions; Number of Respondents: 514; Total Annual Responses: 3,270; Total Annual Hours: 9,334.

2. Type of Information Collection Request: New collection; Title of Information Collection: Medicare Enrollment Application—Durable Medical Equipment, Prosthetics, Orthotics and Supplies (DMEPOS) Suppliers and Supporting Regulations in 42 CFR 424.57 and 424.58; Use: CMS is revising the CMS-855 Medicare Enrollment Applications Package (OMB No. 0938-0685) to remove the CMS-855S application from its collection. CMS has found that the regulations governing the standards required of suppliers of durable medical equipment, prosthetics, orthotics and supplies (DMEPOS) are revised and increased more frequently than the other provider types reimbursed by Medicare. Consequently, CMS must revise the CMS 855S application for DMEPOS suppliers more often than the CMS 855A, CMS 855B, CMS 855I and CMS 855R enrollment applications. The ability to revise the CMS 855S separately from the other CMS 855 enrollment applications will lessen the burden on both CMS and the public as only one subset of suppliers will be effected by CMS 855S revisions. CMS intends to maintain the continuity of the CMS 855 enrollment applications by using the same formats and lay-out of the current CMS 855 enrollment applications, regardless of the separation of the CMS 855S from the collective enrollment application package. The primary function of the CMS 855S DMEPOS supplier enrollment application is to gather information from a supplier that tells us who it is, whether it meets certain qualifications to be a health care supplier, where it renders its services or supplies, the identity of the owners of the enrolling entity, and information necessary to establish the correct claims payment. Form Number: CMS-855S (OMB# 0938-New); Frequency: Yearly; Affected Public: Business or other for-profits and not-for-profit institutions; Number of Respondents: 126,134; Total Annual Responses: 126,134; Total Annual Hours: 149,234.

3. Type of Information Collection Request: New collection; Title of Information Collection: Medicare Registration Summary and Medication History Personal Health Record Evaluation; Use: In 2006, the American Health Information Community (AHIC) Consumer Empowerment Workgroup (CEWG) made a recommendation to CMS to pilot programs that measure and demonstrate the value of Personal Health Records (PHRs) for patients with chronic diseases and their clinicians. For this information collection, CMS has proposed to evaluate the uptake, use, and perceived value of a Registration Summary and Medication History PHR tool for Medicare Managed Care and/or Part D Drug Plan Beneficiaries. Seven commercial health plans volunteered to integrate the PHR pilot tool within their existing PHRs, and these plans are offering the tool to member beneficiaries at no cost. CMS will examine how the PHRs were used by the beneficiaries, caregivers and providers and if they were perceived to improve the quality of the beneficiary/provider communication; timeliness of preventive screenings; and ease of use or value of information to individuals with chronic conditions. Form Number: CMS-10264 (OMB# 0938-New); Frequency: Once; Affected Public: Individuals or households, private sector; Number of Respondents: 2,167; Total Annual Responses: 2,167; Total Annual Hours: 1083.5.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 29, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ______, Room C4-26-05, 7500 Security Boulevard, Baltimore, Maryland 21244-1850.

Dated: May 22, 2008.
Michelle Shortt,
Director, Regulations Development Group, Office of Strategic Operations and Regulatory Affairs.

[FR Doc. E8-12069 Filed 5-29-08; 8:45 am]

BILLING CODE 4120-01-P